DEPARTMENT OF ENERGY

Federal Energy Regulatory Commission

Combined Notice of Filings

Take notice that the Commission has received the following Natural Gas Pipeline Rate and Refund Report filings:

Filings Instituting Proceedings

Docket Number: PR18-75-000.

Applicants: Atmos Pipeline-Texas.

Description: Tariff filing per 284.123(b), (e) + (g): APT TCJA Rate Change to be effective 8/1/2018.

Filed Date: 8/7/18.

Accession Number: 20180807-5111.

Comments Due: 5 p.m. ET 8/28/18.

284.123(g) Protests Due: 5 p.m. ET 10/9/18.

Docket Numbers: RP17-913-000.

Applicants: Natural Gas Pipeline Company of America.

Description: Natural Gas Pipeline Company of America LLC submits tariff filing per: Informational Fuel Transparency Report (RP17-303 and RP17-913).

Filed Date: 8/1/18.

Accession Number: 20180801-5212.

Comments Due: 5 p.m. ET 8/13/18.

Docket Numbers: RP18-1049-000.

Applicants: Florida Southeast Connection, LLC.

Description: § 4(d) Rate Filing: Negotiated Rate Filing—FPL 4002 to be effective 9/1/2018.

Filed Date: 8/7/18.

Accession Number: 20180807-5064.

Comments Due: 5 p.m. ET 8/20/18.

Docket Numbers: RP18-1050-000.

Applicants: Rockies Express Pipeline LLC.

Description: § 4(d) Rate Filing: Neg Rate 2018-08-07 Encana to be effective 8/7/2018.

Filed Date: 8/7/18.

Accession Number: 20180807-5065.

Comments Due: 5 p.m. ET 8/20/18.

Docket Numbers: RP18-1051-000.

Applicants: Gulf Crossing Pipeline Company LLC.

Description: Compliance filing Compliance Filing in Docket No. CP18-83-000—Remove Reference to Enable Lease to be effective 7/31/2018.

Filed Date: 8/8/18.

Accession Number: 20180808-5051.

Comments Due: 5 p.m. ET 8/20/18.

Docket Numbers: RP18-940-003.

Applicants: Empire Pipeline, Inc.

Description: Compliance filing Compliance Filing of Currently Effective Rates and Proposed Storage Rates to be effective 8/1/2018.

Filed Date: 8/8/18.

Accession Number: 20180808-5122.

Comments Due: 5 p.m. ET 8/20/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2018.
Nathaniel J. Davis, Sr.,
Deputy Secretary.

[FR Doc. 2018-17541 Filed 8-14-18; 8:45 am]

BILLING CODE 6717-01-P